DEPARTMENT OF COMMERCE

National Oceanic and Atmospheric Administration

50 CFR Part 679

[Docket No. 180713633-9174-02; RTID 0648-XY073]

Fisheries of the Exclusive Economic Zone Off Alaska; Reallocation of Pollock in the Bering Sea and Aleutian Islands

AGENCY: National Marine Fisheries Service (NMFS), National Oceanic and Atmospheric Administration (NOAA), Commerce.

ACTION: Temporary rule.

SUMMARY: NMFS is reallocating the projected unused amounts of the Community Development Quota (CDQ) pollock directed fishing allowance (DFA) from the Aleutian Islands subarea to the Bering Sea subarea. This action is necessary to provide opportunity for harvest of the 2020 total allowable catch of pollock, consistent with the goals and objectives of the Fishery Management Plan for Groundfish of the Bering Sea and Aleutian Islands Management Area (BSAI).

DATES: Effective 1200 hrs, Alaska local time (A.l.t.), January 29, 2020, until the effective date of the final 2020 and 2021 harvest specifications for BSAI groundfish, unless otherwise modified or superseded through publication of a notification in the Federal Register.

FOR FURTHER INFORMATION CONTACT: Steve Whitney, 907-586-7228.

SUPPLEMENTARY INFORMATION: NMFS manages the groundfish fishery in the BSAI exclusive economic zone according to the Fishery Management Plan for Groundfish of the Bering Sea and Aleutian Islands Management Area (FMP) prepared by the North Pacific Fishery Management Council (Council) under authority of the Magnuson-Stevens Fishery Conservation and Management Act. Regulations governing fishing by U.S. vessels in accordance with the FMP appear at subpart H of 50 CFR part 600 and 50 CFR part 679.

In the Aleutian Islands subarea, the portion of the 2020 pollock total allowable catch (TAC) allocated to the CDQ DFA is 1,900 mt as established by the final 2019 and 2020 harvest specifications for groundfish in the BSAI (84 FR 9000, March 13, 2019), and as adjusted by an inseason adjustment (85 FR 19, January 2, 2020).

As of January 15, 2020, the Administrator, Alaska Region, NMFS, (Regional Administrator) has determined that 1,900 mt of pollock CDQ DFA in the Aleutian Islands subarea will not be harvested. Therefore, in accordance with § 679.20(a)(5)(iii)(B)(4), NMFS reallocates 1,900 mt of pollock CDQ DFA from the Aleutian Islands subarea to the 2020 Bering Sea subarea. The 1,900 mt of pollock CDQ DFA is added to the 2020 Bering Sea CDQ DFA. The 2020 Bering Sea subarea pollock incidental catch allowance remains at 47,453 mt. As a result, the 2020 harvest specifications for pollock in the Aleutian Islands subarea included in the final 2019 and 2020 harvest specifications for groundfish in the BSAI (84 FR 9000, March 13, 2019) and as adjusted by an inseason adjustment (85 FR 19, January 2, 2020) are revised as follows: 0 mt to CDQ DFA. Furthermore, pursuant to § 679.20(a)(5), Table 5 of the final 2019 and 2020 harvest specifications for groundfish in the BSAI (84 FR 9000, March 13, 2019), as adjusted by the inseason adjustment (85 FR 19, January 2, 2020), is revised to make 2020 pollock allocations consistent with this reallocation. This reallocation results in an adjustment to the 2020 CDQ pollock allocation established at § 679.20(a)(5).

Table 5—Final 2020 Allocations of Pollock TACS to the Directed Pollock Fisheries and to the CDQ Directed Fishing Allowances (DFA) ¹
[Amounts are in metric tons]
Area and sector | 2020 Allocations | 2020 A season ¹: A season DFA | 2020 A season ¹: SCA harvest limit ² | 2020 B season ¹: B season DFA
Bering Sea subarea TAC ¹ | 1,426,900 | n/a | n/a | n/a
CDQ DFA | 144,400 | 64,980 | 40,432 | 79,420
ICA ¹ | 47,453 | n/a | n/a | n/a
Total Bering Sea non-CDQ DFA | 1,235,048 | 555,771 | 345,813 | 679,276
AFA Inshore | 617,524 | 277,886 | 172,907 | 339,638
AFA Catcher/Processors ³ | 494,019 | 222,309 | 138,325 | 271,710
Catch by C/Ps | 452,027 | 203,412 | n/a | 248,615
Catch by CVs ³ | 41,992 | 18,896 | n/a | 23,095
Unlisted C/P Limit ⁴ | 2,470 | 1,112 | n/a | 1,359
AFA Motherships | 123,505 | 55,577 | 34,581 | 67,928
Excessive Harvesting Limit ⁵ | 216,133 | n/a | n/a | n/a
Excessive Processing Limit ⁶ | 370,514 | n/a | n/a | n/a
Aleutian Islands subarea ABC | 55,120 | n/a | n/a | n/a
Aleutian Islands subarea TAC ¹ | 17,100 | n/a | n/a | n/a
CDQ DFA | 0 | 0 | n/a | 0
ICA | 2,400 | 1,200 | n/a | 1,200
Aleut Corporation | 14,700 | 14,700 | n/a | 0
Area harvest limit ⁷ | n/a | n/a | n/a | n/a
541 | 16,536 | n/a | n/a | n/a
542 | 8,268 | n/a | n/a | n/a
543 | 2,756 | n/a | n/a | n/a
Bogoslof District ICA ⁸ | 75 | n/a | n/a | n/a
¹ Pursuant to § 679.20(a)(5)(i)(A), the Bering Sea subarea pollock TAC, after subtracting the CDQ DFA (10 percent) and the ICA (3.7 percent), is allocated as a DFA as follows: Inshore sector—50 percent, catcher/processor sector (C/P)—40 percent, and mothership sector—10 percent. In the Bering Sea subarea, 45 percent of the DFA is allocated to the A season (January 20-June 10) and 55 percent of the DFA is allocated to the B season (June 10-November 1). Pursuant to § 679.20(a)(5)(iii)(B)(2)(i) through (iii), the annual Aleutian Islands pollock TAC, after subtracting first for the CDQ DFA (10 percent) and second for the ICA (2,400 mt), is allocated to the Aleut Corporation for a pollock directed fishery. In the Aleutian Islands subarea, the A season is allocated up to 40 percent of the ABC for AI pollock.
² In the Bering Sea subarea, pursuant to § 679.20(a)(5)(i)(C), no more than 28 percent of each sector's annual DFA may be taken from the SCA before noon, April 1.
³ Pursuant to § 679.20(a)(5)(i)(A)(4), 8.5 percent of the DFA allocated to listed C/Ps shall be available for harvest only by eligible catcher vessels with a C/P endorsement delivering to listed C/Ps, unless there is a C/P sector cooperative for the year.
⁴ Pursuant to § 679.20(a)(5)(i)(A)(4)(iii), the AFA unlisted catcher/processors are limited to harvesting not more than 0.5 percent of the catcher/processors sector's allocation of pollock.
⁵ Pursuant to § 679.20(a)(5)(i)(A)(6), NMFS establishes an excessive harvesting share limit equal to 17.5 percent of the sum of the non-CDQ pollock DFAs.
⁶ Pursuant to § 679.20(a)(5)(i)(A)(7), NMFS establishes an excessive processing share limit equal to 30.0 percent of the sum of the non-CDQ pollock DFAs.
⁷ Pursuant to § 679.20(a)(5)(iii)(B)(6), NMFS establishes harvest limits for pollock in the A season in Area 541 of no more than 30 percent, in Area 542 of no more than 15 percent, and in Area 543 of no more than 5 percent of the Aleutian Islands pollock ABC.
⁸ Pursuant to § 679.22(a)(7)(B), the Bogoslof District is closed to directed fishing for pollock. The amounts specified are for incidental catch only and are not apportioned by season or sector.
Note: Seasonal or sector apportionments may not total precisely due to rounding.

Classification

This action responds to the best available information recently obtained from the fishery. The Assistant Administrator for Fisheries, NOAA (AA), finds good cause to waive the requirement to provide prior notice and opportunity for public comment pursuant to the authority set forth at 5 U.S.C. 553(b)(B) as such requirement is impracticable and contrary to the public interest. This requirement is impracticable and contrary to the public interest as it would prevent NMFS from responding to the most recent fisheries data in a timely fashion and would delay the reallocation of Aleutian Islands pollock. Since the pollock fishery opens January 20, 2020, it is important to immediately inform the industry as to the Bering Sea subarea pollock CDQ DFA. Immediate notification is necessary to allow for the orderly conduct and efficient operation of this fishery; allow the industry to plan for the fishing season and avoid potential disruption to the fishing fleet as well as processors; and provide opportunity to harvest increased seasonal pollock allocations while value is optimum. NMFS was unable to publish a notice providing time for public comment because the most recent, relevant data only became available as of January 15, 2019.

The AA also finds good cause to waive the 30-day delay in the effective date of this action under 5 U.S.C. 553(d)(3). This finding is based upon the reasons provided above for waiver of prior notice and opportunity for public comment.

This action is required by § 679.20 and is exempt from review under Executive Order 12866.

Authority: 16 U.S.C. 1801 et seq.

Dated: January 17, 2020.
Karyl K. Brewster-Geisz,
Acting Director, Office of Sustainable Fisheries, National Marine Fisheries Service.

[FR Doc. 2020-01094 Filed 1-28-20; 8:45 am]

BILLING CODE 3510-22-P